DEPARTMENT OF COMMERCE

Foreign-Trade Zones Board

[Order No.1512]

Expansion of Foreign-Trade Zone 104, Savannah, Georgia, Area

Pursuant to its authority under the Foreign-Trade Zones Act of June 18, 1934, as amended (19 U.S.C. 81a-81u), the Foreign-Trade Zones Board (the Board) adopts the following Order:

Whereas, the Savannah Airport Commission, grantee of Foreign-Trade Zone 104, submitted an application to the Board for authority to expand FTZ 104 to include a site (98 acres) at an industrial park (Site 8) in the Savannah, Georgia, area, adjacent to the Savannah Customs and Border Protection port of entry (FTZ Docket 40-2006; filed 9/25/06);

Whereas, notice inviting public comment was given in the Federal Register (71 FR 59071, 10/06/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 104 is approved, subject to the FTZ Act and the Board's regulations, including Section 400.28, and subject to a sunset provision that would terminate authority for the proposed site on May 31, 2012, unless the site is activated under FTZ procedures before that date.

Signed at Washington, DC, this 18th day of May 2007.

David M. Spooner,
Assistant Secretary of Commerce for Import Administration, Alternate Chairman, Foreign-Trade Zones Board.
Attest:
Andrew McGilvray,
Executive Secretary.

[FR Doc. E7-10783 Filed 6-4-07; 8:45 am]

BILLING CODE 3510-DS-S